DEPARTMENT OF VETERANS AFFAIRS

Privacy Act of 1974; System of Records

AGENCY: Veterans Health Administration (VHA), Department of Veterans Affairs (VA).

ACTION: Notice of a new system of records.

SUMMARY: Pursuant to the Privacy Act of 1974, notice is hereby given that the Department of Veterans Affairs (VA) proposes to establish a new system of records entitled, “Federal Case Management Tool” (FCMT). FCMT is a web-based application that supports VA and the Department of Defense (DoD) with the effective management and tracking of Veteran and Service member beneficiaries at all levels of the continuum of care.

DATES: Comments on this new system of records must be received no later than 30 days after date of publication in the Federal Register. If no public comment is received during the period allowed for comment or unless otherwise published in the Federal Register by VA, the new system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to “Federal Case Management Tool (FCMT)—VA” (202VA005Q). Comments received will be available at regulations.gov for public viewing, inspection, or copies.

FOR FURTHER INFORMATION CONTACT: Freda Perry, Project Manager, Federal Case Management Tool (FCMT), Office of Information & Technology, Department of Veterans Affairs, 810 Vermont Avenue NW, (005QF3), Washington, DC 20420, (202) 802-7882, and Freda.Perry2@va.gov; Paul Zeien, Director, Education Veterans Readiness and Employment Product Line—EVREPL (FCMT), Office of Information & Technology, Department of Veterans Affairs, 5000 S 5th Avenue, Hines, IL 60141, (708) 483-5432 and Paul.Zeien@va.gov.

SUPPLEMENTARY INFORMATION: The Department is establishing a new system of records entitled “Federal Case Management Tool (FCMT),” as it was previously connected to the Veterans Tracking Application (VTA)/Federal Case Management Tool (FCMT) (160VA005Q3) system of records, originally published in the Federal Register on April 19, 2012, and amended on Aril 15, 2014. Due to the separation of Federal Case Management Tool (FCMT) from Veterans Tracking Application (VTA), the VTA/FCMT system of records was again amended on March 8, 2020, and republished as Veterans Tracking Application (163CA005Q3), a standalone application that now falls under the product line “Eligibility and Enrollment (E&E)” at VHA. Accordingly, FCMT is being established as a new system of records encompassing a standalone application that now falls under “Education Veterans Readiness and Employment Product Line (EVREPL)”.

Signing Authority

The Senior Agency Official for Privacy, or designee, approved this document and authorized the undersigned to sign and submit the document to the Office of the Federal Register for publication electronically as an official document of the Department of Veterans Affairs. Neil C. Evans, M.D., Chief Officer, Connected Care, Performing the Delegable Duties of the Assistant Secretary for Information and Technology and Chief Information Officer, approved this document on October 21, 2021 for publication.

Dated: November 30, 2021.
Amy L. Rose,
Program Analyst, VA Privacy Service, Office of Information Security, Office of Information and Technology, Department of Veterans Affairs.

SYSTEM NAME AND NUMBER:

Federal Case Management Tool (FCMT)—VA (202VA005Q)

SECURITY CLASSIFICATION:

Unclassified.

SYSTEM LOCATION:

Systems of records are generally maintained on information systems owned, operated by, or operated on behalf of the Department. The primary FCMT system is in the Microsoft Government Community Cloud (GCC), a government-authorized cloud-service provider, with Microsoft Global Foundation Services (GFS) Datacenters in Boydton, Virginia; Des Moines, Iowa; Dallas, Texas; and Phoenix, Arizona. For security reasons, Microsoft does not disclose the physical location of the data centers. For more information, please refer to the JAB FedRAMP ATO for Microsoft Dynamics CRM.

SYSTEM MANAGER(S):

Paul Zeien, Director—Education Veterans Readiness and Employment Product Line—EVREPL (FCMT), Office of Information & Technology, Department of Veterans Affairs, 5000 S 5th Avenue, Hines, IL 60141 (708) 483-5432 and Paul.Zeien@va.gov.

AUTHORITY FOR MAINTENANCE OF THE SYSTEM:

The authority for maintaining this system is Title 38 U.S.C. 5106.

PURPOSE(S) OF THE SYSTEM:

The purpose of the FCMT is to track the initial arrival of a Service member into the VA and DoD health care systems and their subsequent movement among VA health facilities, as well as monitor benefits application and administration details. This history includes all benefit award details to include application dates, award decisions, dates, and amounts.

The records and information may be used for analysis to produce various management, workload tracking, and follow-up reports for our Veterans; to track and evaluate the ordering and delivery of services and patient care; for the planning, distribution and utilization of resources; and to allocate clinical and administrative support to patient medical care.

In addition, the data may be used to assist in workload allocation for patient treatment services including provider panel management, nursing care, clinic appointments, surgery, prescription processing, diagnostic and therapeutic procedures; to plan and schedule training activities for employees; for audits, reviews and investigations conducted by the network directors office and VA Central Office; for quality assurance audits, reviews and investigations; for law enforcement investigations; and for personnel management, evaluation and employee ratings, and performance evaluations.

CATEGORIES OF INDIVIDUALS COVERED BY THE SYSTEM:

These records include information on Service Members (SM) and Veterans as described for the Federal Recovery Coordinator Program (FRCP), severely injured/visually severely impaired (SI/VSI), Case Management for Veterans Benefits Administration (VBA), Veterans Health Administration (VHA) Liaison, and Chapter 63 Special Outreach programs.

CATEGORIES OF RECORDS IN THE SYSTEM:

The records may include identifying information (e.g., name, contact information, Social Security number), association to dependents, cross reference to other names used, military service participation and status information (branch of service, rank, enter on duty date, release from active duty date, military occupations, type of duty), reason and nature of active duty separation (completion of commitment, disability, hardship, etc.), combat/environmental exposures (combat pay, combat awards, theater location), combat deployments (period of deployment, location/country), Guard/Reserve activations (type of activation), military casualty/disabilities (line of duty death, physical examination board status, serious/very serious injury status, recovery plans, DoD rated disabilities), benefit participation, eligibility and usage, and VA compensation (rating, award amount).

RECORD SOURCE CATEGORIES:

Information in this system of records is provided by VA Department of Defense Identity Repository (VADIR) for the Department of Defense and Department of Veterans Affairs.

ROUTINE USES OF RECORDS MAINTAINED IN THE SYSTEM, INCLUDING CATEGORIES OF USERS AND PURPOSES OF SUCH USES:

1. Congress

VA may disclose information to a Member of Congress or staff acting upon the Member's behalf when the Member or staff requests the information on behalf of, and at the request of, the individual who is the subject of the record.

2. Data Breach Response and Remediation, for VA

VA may disclose information to appropriate agencies, entities, and persons when (1) VA suspects or has confirmed that there has been a breach of the system of records, (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data Breach Response and Remediation, for Another Federal Agency

VA may disclose information to another Federal agency or Federal entity, when VA determines that information is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement

VA may disclose information that, either alone or in conjunction with other information, indicates a violation or potential violation of law, whether civil, criminal, or regulatory in nature, to a Federal, state, local, territorial, tribal, or foreign law enforcement authority or other appropriate entity charged with the responsibility of investigating or prosecuting such violation or charged with enforcing or implementing such law. The disclosure of the names and addresses of veterans and their dependents from VA records under this routine use must also comply with the provisions of 38 U.S.C. 5701.

5. DoJ for Litigation or Administrative Proceeding

VA may disclose information to the Department of Justice (DoJ), or in a proceeding before a court, adjudicative body, or other administrative body before which VA is authorized to appear, when:

(a) VA or any component thereof;

(b) Any VA employee in his or her official capacity;

(c) Any VA employee in his or her official capacity where DoJ has agreed to represent the employee; or

(d) The United States, where VA determines that litigation is likely to affect the agency or any of its components, is a party to such proceedings or has an interest in such proceedings, and VA determines that use of such records is relevant and necessary to the proceedings.

6. Contractors

VA may disclose information to contractors, grantees, experts, consultants, students, and others performing or working on a contract, service, grant, cooperative agreement, or other assignment for VA, when reasonably necessary to accomplish an agency function related to the records.

7. OPM

VA may disclose information to the Office of Personnel Management (OPM) in connection with the application or effect of civil service laws, rules, regulations, or OPM guidelines in particular situations.

8. EEOC

VA may disclose information to the Equal Employment Opportunity Commission (EEOC) in connection with investigations of alleged or possible discriminatory practices, examination of Federal affirmative employment programs, or other functions of the Commission as authorized by law.

9. FLRA

VA may disclose information to the Federal Labor Relations Authority (FLRA) in connection with: The investigation and resolution of allegations of unfair labor practices, the resolution of exceptions to arbitration awards when a question of material fact is raised; matters before the Federal Service Impasses Panel; and the investigation of representation petitions and the conduct or supervision of representation elections.

10. MSPB

VA may disclose information to the Merit Systems Protection Board (MSPB) and the Office of the Special Counsel in connection with appeals, special studies of the civil service and other merit systems, review of rules and regulations, investigation of alleged or possible prohibited personnel practices, and such other functions promulgated in 5 U.S.C. 1205 and 1206, or as authorized by law.

11. NARA

VA may disclose information to NARA in records management inspections conducted under 44 U.S.C. 2904 and 2906, or other functions authorized by laws and policies governing NARA operations and VA records management responsibilities.

12. Federal Agencies, for Research

VA may disclose information to a Federal agency for the purpose of conducting research and data analysis to perform a statutory purpose of that Federal agency upon the prior written request of that agency.

13. Federal Agencies, for Computer Matches

VA may disclose information from this system to other federal agencies for the purpose of conducting computer matches to obtain information to determine or verify eligibility of veterans receiving VA benefits or medical care under Title 38, U.S.C.

14. Federal Agencies, Courts, Litigants, for Litigation or Administrative Proceedings

VA may disclose information to another federal agency, court, or party in litigation before a court or in an administrative proceeding conducted by a Federal agency, when the government is a party to the judicial or administrative proceeding.

15. Governmental Agencies, Health Organizations, for Claimants' Benefits

VA may disclose information to Federal, state, and local government agencies and national health organizations as reasonably necessary to assist in the development of programs that will be beneficial to claimants, to protect their rights under law, and assure that they are receiving all benefits to which they are entitled.

16. Health Care Providers, for Referral by VA

VA may disclose information to: (1) A federal agency or health care provider when VA refers a patient for medical and other health services, or authorizes a patient to obtain such services and the information is needed by the federal agency or health care provider to perform the services; or (2) a federal agency or to health care provider under the provisions of 38 U.S.C. 513, 7409, 8111, or 8153, when treatment is rendered by VA under the terms of such contract or agreement or the issuance of an authorization, and the information is needed for purposes of medical treatment or follow-up, determination of eligibility for benefits, or recovery by VA of the costs of the treatment.

17. Health Care Provider, for Referral to VA

VA may disclose information to a non-VA health care provider when that health care provider has referred the individual to VA for medical or other health services.

POLICIES AND PRACTICES FOR STORAGE OF RECORDS:

Records are transmitted between approved VA and DoD office/systems and FCMT over secure telecommunications (i.e., SFTP, secure web services) using approved encryption technologies. Records (or information contained in records) are maintained in electronic format in the FCMT database. Information from FCMT is disseminated in three ways: (1) Approved VA and DoD systems electronically request and receive data from FCMT over the internal VA and DoD network; (2) data is provided over the secure telecommunications between FCMT and approved VA and DoD office/systems for reconciliation of records; (3) periodic electronic data extracts of subsets of information contained in FCMT are provided to approved VA and DoD offices/systems over the internal VA network and DoD network. FCMT is currently on the Microsoft Government Community Cloud and all backups are located there as well.

POLICIES AND PRACTICES FOR RETRIEVAL OF RECORDS:

Records are retrieved using name, claim file number, social security number, date of birth, and other unique identifiers belonging to the individual to whom the information pertains.

POLICIES AND PRACTICES FOR RETENTION AND DISPOSAL OF RECORDS:

Records are electronically imaged and established by VA as the official record, its paper contents (with the exception of documents that are on hold due to pending litigation, and service treatment records and other documents that are the property of DoD), are reclassified as duplicate—non record keeping—copies of the official record, and will be destroyed in accordance with Records Control Schedule VB-1, Part 1 Section XIII, Item 13-052.100 as authorized by NARA. All paper documentation that is not the property of VA (e.g., DoD-owned documentation) is currently stored by VA after scanning, pending a policy determination as to its final disposition. All documentation being held pursuant to active litigation is held in its native format during the pendency of the litigation. All FCMT records are stored on a secure VA server, pending permanent transfer to NARA where they will be maintained as historical records. Once an electronic record has been transferred into NARA custody, the record will be fully purged and deleted from the VA system in accordance with governing records control schedules using commercial off the shelf (COTS) software designed for the purpose. Once purged, the record will be unavailable on the VA system, and will only be accessible through NARA.

Prior to destruction of any paper source documentation reclassified as duplicate copies, VA engages in a comprehensive and multi-layered quality control and validation program to ensure material that has been electronically imaged is completely and accurately uploaded into the VBMS eFolder. To guarantee the integrity and completeness of the record, VA engages in industry-best practices, using state-of-the-art equipment, random sampling, independent audit, and 100% VA review throughout the claims adjudication process. Historically, VA's success rate in ensuring the accuracy and completeness of the electronic record routinely and consistently exceeds 99%. Furthermore, no paper document is ever destroyed while any related claim or appeal for VA benefits is still pending. VA waits 3 years after the final adjudication of any claim or appeal before destroying the paper duplicate copies that have been scanned into the FCMT. As noted, the electronic image of the paper document is retained indefinitely as a permanent record either by VA or NARA.

Decisions to destroy VR&E paper counseling records are to be made in accordance with Records Control Schedule (RCS), RCS VB-1, Part I, Field in Section VII, dated January 31, 2014. Automated storage media containing temporary working information are retained until a claim is decided, and then destroyed. All other automated storage media are retained and disposed of in accordance with disposition authorization approved by NARA. Education file folders in paper are retained at the servicing Regional Processing Office. Education paper folders may be destroyed in accordance with the times set forth in the VBA Records Management, Records Control Schedule VB-1, Part 1, Section VII, as authorized by NARA.

ADMINISTRATIVE, TECHNICAL, AND PHYSICAL SAFEGUARDS:

1. Physical Security: The primary FCMT system is in the Microsoft Government Community Cloud (GCC), and the backup disaster recovery system is located on the Government Community Cloud as well. Access to data processing centers is generally restricted to center employees, custodial personnel, Federal Protective Service, and other security personnel. Access to computer rooms is restricted to authorized operational personnel through electronic passage technology. All other persons needing access to computer rooms are escorted.

2. System Security: Access to the VA network is protected by the usage of “PIV”. Once on the VA network, separate ID and password credentials are required to gain access to the FCMT server and/or database. Access to the server and/or database is granted to only a limited number of system administrators and database administrators. In addition, FCMT has undergone certification and accreditation. Users of FCMT access the system via AccessVA. Users must also register through FCMT and obtain a FCMT Account. Within the VTA system, users are designated a role which determines their access to specific data. Based on a risk assessment that followed National Institute of Standards and Technology Vulnerability and Threat Guidelines, the system is considered stable and operational. FCMT is in a minor application under the BAM CRM Authority to Operate (ATO). The system is in the process of requesting a stand-alone Authority to Operate (ATO) as a major application.

RECORD ACCESS PROCEDURES:

Individuals seeking information on the existence and content of records in this system pertaining to them should contact the system manager in writing as indicated above. A request for access to records must contain the requester's full name, address, telephone number, be signed by the requester, and describe the records sought in sufficient detail to enable VA personnel to locate them with a reasonable amount of effort.

CONTESTING RECORD PROCEDURES:

Individuals seeking to contest or amend records in this system pertaining to them should contact the system manager in writing as indicated above. A request to contest or amend records must state clearly and concisely what record is being contested, the reasons for contesting it, and the proposed amendment to the record.

NOTIFICATION PROCEDURES:

Generalized notice is provided by the publication of this notice. For specific notice, see Record Access Procedure, above.

EXEMPTIONS PROMULGATED FOR THE SYSTEM:

None.

HISTORY:

None, this is a new SORN.

[FR Doc. 2021-26257 Filed 12-2-21; 8:45 am]

BILLING CODE P